DEPARTMENT OF COMMERCE

National Oceanic and Atmospheric Administration

[I.D. 060804D]

Pacific Fishery Management Council; Public Meetings

AGENCY: National Marine Fisheries Service (NMFS), National Oceanic and Atmospheric Administration (NOAA), Commerce.

ACTION: Notice of public meeting.

SUMMARY: The Pacific Fishery Management Council's (Council) Scientific and Statistical Committee (SSC) and NOAA Fisheries will hold a workshop to promote the exchange of data, information, ideas, and solutions for recreational catch per unit effort (CPUE) statistics as indicators of West Coast groundfish stock abundance.

DATES: The two-day workshop will begin at 8:30 a.m. on Tuesday, June 29 and will continue until business for the day is completed. The workshop will reconvene at 8:30 a.m. on Wednesday, June 30, 2004 and will continue until business is completed. Public comments will be allowed at times to be specified by the chair.

ADDRESSES: The workshop will be held at the Southwest Fisheries Science Center, Meeting Room 188, 110 Shaffer Road, Santa Cruz, CA 95060.

Council address: Pacific Fishery Management Council, 7700 NE Ambassador Place, Suite 200, Portland, OR 97220-1384.

FOR FURTHER INFORMATION CONTACT: Dr. Steve Ralston, SSC Groundfish Subcommittee Chair, telephone: (831) 420-3949; Mr. John DeVore, Pacific Fishery Management Council, telephone: (503) 820-2280; or Ms. Stacey Miller, Northwest Fisheries Science Center, telephone: (206) 860-3480.

SUPPLEMENTARY INFORMATION: The purpose of the Recreational CPUE Statistics Workshop is to review existing sources of recreational data on the West Coast and to reach a broad consensus and understanding of the availability of recreational fisheries data and methods to calculate CPUE statistics for use in stock assessments. The importance of recreational CPUE statistics in groundfish stock assessments has grown in recent years. Council- sponsored assessments of bocaccio, cabezon, cowcod, black rockfish, lingcod, and yelloweye rockfish have all evaluated time series of recreational CPUE as indicators of stock abundance. As more of the minor groundfish species become assessed, CPUE statistics derived from catch rates in sport fisheries will likely play an important role in stock evaluation.

Although non-emergency issues not contained in the meeting agenda may come before the workshop participants for discussion, those issues may not be the subject of formal workshop action during this meeting. Workshop action will be restricted to those issues specifically listed in this notice and any issues arising after publication of this notice that require emergency action under Section 305(c) of the Magnuson-Stevens Fishery Conservation and Management Act, provided the public has been notified of the workshop participants' intent to take final action to address the emergency.

Special Accommodations

This meeting is physically accessible to people with disabilities. Requests for sign language interpretation or other auxiliary aids should be directed to Ms. Carolyn Porter at (503) 820-2280 at least 5 days prior to the meeting date.

Dated: June 8, 2004.
Alan D. Risenhoover,
Acting Director, Office of Sustainable Fisheries, National Marine Fisheries Service.

[FR Doc. E4-1339 Filed 6-14-04; 8:45 am]

BILLING CODE 3510-22-S